DEPARTMENT OF ENERGY

Federal Energy Regulatory Commission

[Docket No. CP26-17-000]

Leaf River Energy Center LLC; Notice of Schedule for the Preparation of an Environmental Assessment for the Leaf River Capacity Expansion Project

On October 31, 2025, Leaf River Energy Center LLC (LREC) filed an application in Docket No. CP26-17-000 requesting a Certificate of Public Convenience and Necessity pursuant to Section 7(c) of the Natural Gas Act to construct and operate certain natural gas pipeline facilities. The proposed project is known as the Leaf River Capacity Expansion Project (Project) and would increase the certificated natural gas storage capacity at its existing New Home Salt Dome storage facility by 17.62 billion cubic feet.

On November 13, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ For tracking purposes under the National Environmental Policy Act, the unique identification number for documents relating to this environmental review is EAXX-019-20-000-1767100220.

Schedule for Environmental Review

Issuance of EA—May 1, 2026

90-day Federal Authorization Decision Deadline ²—July 30, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

As described above, LREC proposes to expand existing natural gas storage cavern capacity and create a new natural gas storage cavern, along with adding three new compressors at existing facilities in Smith, Jasper, and Clarke counties, Mississippi. The Leaf River Capacity Expansion Project would allow LREC to increase the certificated natural gas storage capacity at its existing New Home Salt Dome storage facility by 17.62 billion cubic feet. According to LREC, the project would help satisfy market demand for incremental natural gas storage and is needed to provide critical natural gas grid reliability, and to help reduce price volatility and physical supply and demand imbalances in the Gulf Coast natural gas market.

Background

On December 12, 2025, the Commission issued a Notice of Scoping Period Requesting Comments on Environmental Issues for the Proposed Leaf River Capacity Expansion Project and Notice of Public Scoping Session (Notice of Scoping). The Notice of Scoping was sent to affected landowners; federal, state, and local government agencies; elected officials; environmental and public interest groups; Native American tribes; other interested parties; and local libraries and newspapers. In response to the Notice of Scoping, the Commission did not receive any comments.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

For public inquiries and assistance with making filings such as interventions, comments, or requests for rehearing, contact the Office of Public Participation at (202) 502-6595 or OPP@ferc.gov.

Additional information about the Project is available from the FERC website (www.ferc.gov). Using the “eLibrary” link, select “General Search” from the eLibrary menu, enter the selected date range and “Docket Number” excluding the last three digits (i.e., CP26-17), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

(Authority: 18 CFR 2.1)

Dated: January 14, 2026.
Debbie-Anne A. Reese,
Secretary.

[FR Doc. 2026-00988 Filed 1-16-26; 8:45 am]

BILLING CODE 6717-01-P